ENVIRONMENTAL PROTECTION AGENCY

[FRL-7034-4]

Office of Research and Development; Board of Scientific Counselors, Executive Committee Meeting

AGENCY: Environmental Protection Agency (EPA).

ACTION: Notice of meeting.

SUMMARY: Pursuant to the Federal Advisory Committee Act, Public Law 92-463, as amended (5 U.S.C., App. 2) notification is hereby given that the Environmental Protection Agency, Office of Research and Development (ORD), Board of Scientific Counselors (BOSC) Subcommittee, will meet to review the National Exposure Research Laboratory.

DATES: The Meeting will be held on September 18-20, 2001. On Tuesday, September 18, 2001, the meeting will begin at 1:30 p.m., and will recess at 5:00 p.m. On Wednesday, September 19, 2001, the meeting will begin at 8:30 a.m. and recess at 5:00 p.m. On the final day, Thursday, September 20, 2001, the meeting will begin at 8:30 a.m. and recess at 3:00 p.m., and will include a writing session from 9:30 a.m. to 11:45 a.m. All times noted are Eastern Time.

ADDRESSES: The meeting will be held at the Catawba Building, 3210 Highway 54, Room 327, Research Triangle Park, North Carolina.

SUPPLEMENTARY INFORMATION: Anyone desiring a draft agenda may fax their request to Shirley R. Hamilton at (202) 565-2444. The meeting is open to the public. Any member of the public wishing to make a presentation at the meeting should contact Shirley Hamilton, Designated Federal Officer, U.S. Environmental Protection Agency, Board of Scientific Counselors, Office of Research and Development (8701R), 1200 Pennsylvania Avenue, NW., Washington, DC 20460; or by telephone at (202) 564-6853. In general each individual making an oral presentation will be limited to a total of three minutes.

FOR FURTHER INFORMATION CONTACT: Shirley R. Hamilton, Designated Federal Officer, U.S. Environmental Protection Agency, Office of Research and Development, NCER (8701R), 1200 Pennsylvania Avenue, NW., Washington, DC 20460, (202) 564-6853/

Dated: August 7, 2001.
Peter W. Preuss,
Director, National Center for Environmental Research.

[FR Doc. 01-20657 Filed 8-15-01; 8:45 am]

BILLING CODE 6560-50-M